UNIFIED CARRIER REGISTRATION PLAN

Sunshine Act Meeting Notice; Unified Carrier Registration Plan Audit Subcommittee Meeting

TIME AND DATE: September 19, 2019, from 1:00 p.m. to 4:00 p.m., Eastern daylight time.

PLACE: The Towers at Wildwood, 3200 Windy Hill Road SE, Suite 600W, Atlanta, GA 30339. This meeting will also be accessible via conference call. Any interested person may call 1-866-210-1669, passcode 5253902#, to listen and participate in the meeting.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—Subcommittee Chair

Chair will call the meeting to order.

II. Verification of Publication of Meeting Notice—Chief Legal Officer

Chief Legal Officer will verify the publication of meeting notice on the UCR website and in the Federal Register.

III. Roll Call and Confirmation of Quorum—Operations Manager

Operations Manager will call roll of the Subcommittee members and confirm whether a quorum is present.

IV. Approval of Minutes From June 3, 2019 Meeting—Operations Manager

Minutes from the June 3, 2019 Registration System Subcommittee meeting will be reviewed and the Subcommittee will consider action to approve.

V. Status Report on 2019 Audit Plan—Depository Manager

• Depository Audit: Depository Manager will report on the status of the independent financial review recently conducted by a third-party accounting firm for the UCR Depository.

• State Compliance Reviews: Depository Manager will provide an update on the recent state compliance review conducted in Kansas, as well as plans to conduct reviews in Minnesota and Wisconsin later this year.

VI. 2020 Proposed Audit Plan—Depository Manager

For Discussion and Possible Subcommittee Action:

• State Compliance Reviews: Subcommittee will review and possibly approve recommending to the Board a proposal for conducting UCR compliance reviews for eight (8) participating states in 2020.

• National Registration System Financial Review: Subcommittee will review and possibly approve recommending to the Board a proposed plan to conduct an independent financial review of the National Registration System next year.

• Independent State System Interconnection: Subcommittee will consider and possibly approve recommending to the Board criteria for interconnecting independent UCR registration systems, operated at the state level, to the National Registration System.

• Depository Audit: Subcommittee will consider and possibly approve recommending to the Board a preferred vendor to conduct the independent financial audit of the UCR Depository next year.

• Carrier Audit Procedure for States: Subcommittee will consider and possibly approve recommending to the Board a proposal to amend the UCR state carrier audit procedure to include a new step that would require states to review unregistered carriers based in their respective state.

VII. Amendment to UCR Refund Procedure—Subcommittee Chair

For Discussion and Possible Subcommittee Action: Subcommittee will consider and possibly approve recommending to the Board a proposal to amend the UCR refund procedure for the purpose of establishing the timing and criteria for the potential issuance of a refund that may result from an audit of a UCR registrant.

VIII. Solicitation of New and Unregistered Motor Carriers—Subcommittee Chair

For Discussion and Possible Subcommittee Action: Subcommittee will consider and possibly approve a recommendation to the Board concerning a plan for solicitation of new and unregistered motor carriers to encourage compliance.

IX. Definition of a Commercial Motor Vehicle in UCR Agreement—Subcommittee Chair

For Discussion and Possible Subcommittee Action: Subcommittee will consider and possibly approve recommendation to the Board of a revised definition of a Commercial Motor Vehicle in the UCR Agreement.

X. 2018 State Carrier Audits

Subcommittee Chair will report on the number of participating states that have completed their 2018 annual carrier audits.

XI. Audit Portal in National Registration System—Seikosoft

Subcommittee will receive an update on new functionality in the National Registration System for states to conduct and manage annual carrier audits.

XII. Focused Anomalies Review (FARs)—DSL Transportation

Subcommittee will receive an update on the amount of registration fees collected through the Focused Anomalies Review program in 2019 to date.

XIII. 2020 Operating Budget—Depository Manager

Depository Manager will report on the development of a proposed budget for 2020, particularly any expenses related to the UCR audit program.

XIV. Other Items—Subcommittee Chair

The Subcommittee Chair will call for any other items the subcommittee members would like to discuss.

XV. Adjourn—Subcommittee Chair

Chair will adjourn the meeting.

This agenda will be available no later than 5:00 p.m. Eastern daylight time, September 7, 2019 at: https://plan.ucr.gov.

CONTACT FOR MORE INFORMATION: Elizabeth Leaman, Acting Chair, Unified Carrier Registration Plan Board of Directors, PH: (617) 305-3783, EMAIL: elizabeth.leaman@state.ma.us.

Alex B. Leath,
Chief Legal Officer, Unified Carrier Registration Plan.

[FR Doc. 2019-19620 Filed 9-6-19; 11:15 am]

BILLING CODE 4910-YL-P